DEPARTMENT OF DEFENSE

Office of the Secretary

[Docket ID: DoD-2021-OS-0029]

Privacy Act of 1974; System of Records

AGENCY: Department of Defense (DoD).

ACTION: Rescindment of multiple system of records notices.

SUMMARY: In accordance with the Privacy Act of 1974, the DoD is providing notification of the intention to rescind 25 Privacy Act system of records notices. Additionally, the DoD is issuing a direct final rule, published elsewhere in today's issue of the Federal Register, to amend its regulation and remove the Privacy Act exemption rules for five Defense Manpower Data Center (DMDC) system of records being rescinded in this notice.

DATES: The rescindment of these system of records notices is effective June 14, 2021.

FOR FURTHER INFORMATION CONTACT: Ms. Lyn Kirby, Defense Privacy, Civil Liberties, and Transparency Division, Office of the Director of Administration and Management, 4800 Mark Center Drive, Mailbox #24, Suite 08D09, Alexandria, VA 22350-1700; OSD.DPCLTD@mail.mil; (703) 571-0070.

SUPPLEMENTARY INFORMATION: The following is the list of the systems of records rescinded in this notice:

a. F031 AF SP M: Personnel Security Access Records

b. F031 AFCAF/CASPR A: Air Force Central Adjudication Facility (AFCAF) Central Adjudication Security Personnel Repository (CASPR)

c. DMDC 11 DoD: Investigative Records Repository

d. DMDC 12 DoD: Joint Personnel Adjudication System (JPAS)

e. DMDC 13 DoD: Defense Central Index of Investigations (DCII)

f. DMDC 17 DoD: Continuous Evaluation Records for Personnel Security

g. DMDC 19 DoD: Secure Web Fingerprint Transmission (SWFT)

h. DMDC 24 DoD: Defense Information System for Security (DISS)

i. F032 AF CE A: Equal Opportunity in Off Base Housing

j. F032 AF CE B: Off Base Housing Referral Service

k. F032 AF CE C: Base Housing Management

l. F032 AF CE D: On/Off-Base Housing Records

m. F032 AF CE F: Unaccompanied Personnel Quarters Assignment/Termination (R)

n. F052 AFHC E: Assignment Action File

o. F052 AFHC D: Chaplain Applicant Processing Folder

p. A0500-3c G-3/5/7 DAMO: Department of the Army Emergency Personnel Location Records System and Files

q. HDTRA 028: DTRA MASS Notification System

r. S240.55: DLA Mass Notification System

s. CIG 19: Office of Inspector General—Emergency Alert Notification System

t. LDIA 06-0004: Recall Rosters

u. DPFPA 03: Pentagon Facilities Emergency and Incident Notification Records

v. T3020: Living Disaster Recovery Planning System

w. LDIA 12-0001: Unique Identifying Number (UIN) Management Records

x. F051 AFJA F: Confidential Financial Disclosure Report

y. F052 AFHC G: Chaplain Personnel Roster

Pursuant to the provisions of the Privacy Act of 1974, as amended (5 U.S.C. 552a), and as part of its ongoing integration and management efforts, the DoD is removing 25 Privacy Act systems of records from its inventory. Upon review of its inventory, DoD has determined it no longer needs or uses these systems of records and is retiring the following:

These eight systems of records (items (a) through (h) below) are being rescinded because the records are now maintained as part of the system of records titled DUSDI 02-DoD, Personnel Vetting Records Systems, published October 17, 2018; 83 FR 52420.

(a) The Department of the Air Force system of records F031 AF SP M, Personnel Security Access Records (October 09, 1997; 62 FR 52695), was established to manage security clearance and level of access to classified information for authorized individuals.

(b) The Department of the Air Force system of records F031 AFCAF/CASPR A, Air Force Central Adjudication Facility (AFCAF) Central Adjudication Security Personnel Repository (CASPR) (March 07, 2007; 72 FR 10183), was established to measure the effectiveness of the adjudicative program of the Department of Air Force.

(c) The Defense Manpower Data Center (DMDC) system of records DMDC 11 DoD, Investigative Records Repository (September 18, 2019; 84 FR 49101), was established to determine suitability and eligibility for access to defense information and facilities and entry into and retention in the Armed Forces. It also included those records for use in criminal law enforcement investigations and for use in military boards selecting military members for promotion to grades above 0-6.

(d) The DMDC system of records DMDC 12 DoD, Joint Personnel Adjudication System (JPAS) (September 18, 2019; 84 FR 49101), was established to record, document, and identify personnel security actions within the Department including submitting adverse information, verification of clearance status (to include grants of interim clearances), requesting investigations, and supporting Continuous Evaluation activities.

(e) The DMDC system of records DMDC 13 DoD, Defense Central Index of Investigations (DCII) (September 18, 2019; 84 FR 49101), was established to document investigations used by DoD law enforcement activities, personnel security adjudicators, and in the Continuous Evaluation Program.

(f) The DMDC system of records DMDC 17 DoD, Continuous Evaluation Records for Personnel Security (CE) (July 30, 2014; 79 FR 44161), was established to conduct continuous evaluation to: (1) Identify DoD-affiliated personnel with eligibility for access to classified information who have engaged in conduct of security concern; (2) identify and initiate needed follow-on inquiries and/or investigative activity and enable security officials and adjudicators to determine and take appropriate actions; and (3) perform research, development, and analyses related to DoD's CE program.

(g) The DMDC system of records DMDC 19 DoD, Secure Web Fingerprint Transmission (SWFT) (May 14, 2015; 80 FR 27676), was established to provide a means for all DoD individuals required to submit electronic fingerprints and demographic information to the Office of Personnel and Management (OPM) and the Federal Bureau of Investigation (FBI) (for a personnel security clearance or as part of a background investigation).

(h) The DMDC system of records DMDC 24 DoD, Defense Information System for Security (DISS) (September 18, 2019; 84 FR 49101), was established to support actions to request, record, document, and identify personnel security actions within the Department such as determinations of eligibility and access to classified or national security information, suitability, and/or fitness for employment; HSPD-12 determination for Personal Identity Verification (PIV) to access government facilities and systems; submitting adverse information; verification of investigation and/or adjudicative status; and support of continuous evaluation and insider threat detection, prevention, and mitigation activities.

These five Department of the Air Force system of records notices (items (i) through (m) below) are being rescinded because these records are now covered by the DoD system of records NM1110-01, Family and Unaccompanied Housing Program (September 5, 2018; 83 FR 45112). The NM1110-01 system of records was established to cover records across all military services related to housing and supports the enterprise program management and reporting of the DoD Housing Program.

(i) The Department of the Air Force system of records F032 AF CE A, Equal Opportunity in Off-Base Housing (June 11, 1997; 62 FR 31793), was established to retain historical records of all actions taken in response to or related inquiries pertaining to housing discrimination complaints.

(j) The Department of the Air Force system of records F032 AF CE B, Off-Base Housing Referral Service (June 11, 1997; 62 FR 31793), was established for records of base housing officials, military personnel and authorized civilians to match housing needs/desires.

(k) The Department of the Air Force system of records F032 AF CE C, Base Housing Management (June 11, 1997; 62 FR 31793), was established for use by military members and DoD civilian employees desiring base family housing.

(l) The Department of the Air Force system of records F032 AF CE D, On/Off-Base Housing Records (June 11, 1997; 62 FR 31793), was established to record data required to assign and terminate family housing.

(m) The Department of the Air Force system of records F032 AF CE F, Unaccompanied Personnel Quarters Assignment/Termination (June 11, 1997; 62 FR 31793), was established to manage unaccompanied personnel quarters, maintain a record of application for unaccompanied personnel quarters assignment, terminate assignment, and grant authorization to reside-off-base with or without specified quarters allowance.

These two system of records notices (items (n) and (o) below) are being rescinded because the records are now covered by the Department of the Air Force system of records F036 AF PC C, Military Personnel Records System (October 13, 2000; 65 FR 60916), which covers military personnel records used for actions/processes related to procurement, education and training, classification, assignment, career development, evaluation, promotion, compensation, sustentation, and separation and retirement.

(n) The Department of the Air Force system of records F052 AFHC E, Assignment Action File (June 11, 1997; 62 FR 31793), was established to manage the assignment of personnel in the chaplain career field.

(o) The Department of the Air Force system of records F052 AFHC G, Chaplain Personnel Roster (June 11, 1997; 62 FR 31793), was established to ensure adequate manning of Reserve, Air National Guard, and civilian auxiliary authorizations.

These seven system of records notices (items (p) through (v)) are being rescinded because the records are now covered under the DoD-wide system of records titled DCIO-02-DoD, Enterprise Mass Warning and Notification (EMWNS) (March 30, 2020; 85 FR17545). The EMWNS covers records used to notify and communicate critical safety information to personnel located both on and off military locations.

(p) The Department of the Army system of records A0500-3c G-3/5/7 DAMO, Department of the Army Emergency Personnel Location Records System and Files (May 04, 2014; 79 FR 24692), was established to enable Army-wide organizations using recall rosters to contact necessary personnel to respond to hazard emergencies.

(q) The Defense Threat Reduction Agency system of records HDTRA 028, MASS Notification System (November 14, 2016; 81 FR 79463), was established to notify the workforce quickly in times of emergency.

(r) The Defense Logistics Agency system of records S240 55, DLA Mass Notification System (MNS) (July 25, 2013; 78 FR 44931), was established to apply the ability to disseminate emergency alerts and notification information to DLA installation personnel.

(s) The Office of Inspector General (OIG) system of records CIG-19, Office of Inspector General—Emergency Alert Notification System (July 05, 2013; 78 FR 40447), was established to ensure the OIG has the ability to recall personnel to place of duty when required and for use in emergency notification.

(t) The Defense Intelligence Agency (DIA) system of records LDIA 06-0004, Recall Rosters (September 13, 2012; 77 FR 56625), was established to recall personnel to their place of duty, for use in emergency notifications, and to perform relevant functions, requirements, and actions consistent with managerial functions during an emergency.

(u) The Pentagon Force Protection Agency system of records DPFPA 03, Pentagon Facilities Emergency and Incident Notification Records (May 01, 2014; 79 FR 24686), was established to provide notification to employees and situational awareness during an emergency or incident.

(v) The Defense Finance and Accounting Service (DFAS) system of records T3020, Living Disaster Recovery Planning System (January 22, 2009; 74 FR 3996), was established to provide DFAS with a standardized automated contingency planning process. Personal information in the system was used to publish organizational telephone directories/locators, recall personnel to place of duty when required, for use in emergency notification, and to perform relevant functions requirements consistent with managerial functions during an emergency/disaster.

The following individual system of records notices are being rescinded for the reasons stated in each paragraph below.

(a) The DIA system of records LDIA 12-0001, Unique Identifying Number (UIN) Management Records (April 12, 2012; 77 FR 21975), was established to manage the identification of strategic interrogation and support personnel and their employing U.S. Government agency. The DIA is rescinding LDIA 12-0001 because it determined this system of records is duplicative of the DIA system of records titled LDIA 10-0002, Foreign Intelligence and Counterintelligence Operation Records.

(b) The Department of the Air Force system of records F051 AFJA F, Confidential Financial Disclosure Report (April 16, 2010; 75 FR 19949), was established to determine potential or actual conflicts of interest in the performance of official duties. This system of records is being rescinded because these records are covered under a government-wide system of records titled OGE/GOVT-2, Executive Branch Confidential Financial Disclosure Reports (May 8 2003; 68 FR 24722).

(c) The Department of the Air Force system of records F052 AFHC D, Chaplain Applicant Processing Folder (June 11, 1997; 62 FR 31793), was established to process chaplain applicants to active duty. This system of records is being rescinded because these records are now maintained as part of the Department of the Air Force system of records titled F036 AF PC H, Air Force Enlistment/Commissioning Records System (January 27, 2012; 77 FR 4286). This system covers records maintained by recruiters to determine enlistment/commissioning eligibility, and process qualified applicants.

DoD is issuing a direct final rule, published elsewhere in today's issue of the Federal Register, to amend its regulation and remove the Privacy Act exemption rules for five of the Defense Manpower Data Center (DMDC) system of records being rescinded in this notice.

The DoD notices for systems of records subject to the Privacy Act have been published in the Federal Register and are available from the address in FOR FURTHER INFORMATION CONTACT or at the Defense Privacy, Civil Liberties and Transparency Division website at https://dpcld.defense.gov.

In accordance with 5 U.S.C. 552a(r) and Office of Management and Budget (OMB) Circular No. A-108, DoD has provided a report of the rescindment of these systems of records to the OMB and to Congress.

Dated: June 9, 2021.
Aaron T. Siegel,
Alternate OSD Federal Register Liaison Officer, Department of Defense.

[FR Doc. 2021-12432 Filed 6-11-21; 8:45 am]

BILLING CODE 5001-06-P